OFFICE OF NATIONAL DRUG CONTROL POLICY

Notification of a Public Teleconference of the President's Commission on Combating Drug Addiction and the Opioid Crisis (Commission)

AGENCY: Office of National Drug Control Policy (ONDCP).

ACTION: Notice of teleconference.

SUMMARY: ONDCP announces a meeting by teleconference of the President's Commission on Combating Drug Addiction and the Opioid Crisis. The purpose of the meeting is to review a draft interim report that will be posted on ONDCP's Commission Web site listed below before the teleconference.

DATES: The teleconference will be held on Monday June 26, 2017 at 4:00 p.m. (Eastern time).

ADDRESSES: There will be no physical address. The public may call (866) 233-3841 (Access Code 425352) to listen. Please call five minutes before the start time. If you are part of an organization, please try to consolidate use to as few lines as possible.

FOR FURTHER INFORMATION CONTACT: General information concerning the Commission and its meetings can be found on ONDCP's Web site at https://www.whitehouse.gov/ondcp/presidents-commission. Any member of the public wishing to obtain information about the Commission or its meetings that is not already on ONDCP's Web site or who wishes to submit written comments for the Commission's consideration may contact Michael Passante, Designated Federal Officer (DFO) via email at commission@ondcp.eop.gov or telephone at (202) 395-6709. Please note that ONDCP may post such written comments publicly on our Web site, including names and contact information that are submitted. There will not be oral comments from the public on the teleconference. Requests to accommodate disabilities should also be sent to that email address, preferably at least 10 days prior to the meeting to allow time for processing.

SUPPLEMENTARY INFORMATION: The Commission was established in accordance with E.O. 13784 of March 29, 2017, the Commission's charter, and the provisions of the Federal Advisory Committee Act (FACA), as amended, 5 U.S.C. App. 2, to obtain advice and recommendations for the President regarding drug issues. The Executive Order, charter, and information on the Members of the Commission are available on ONDCP's Web site. The Commission will function solely as an advisory body and will make recommendations regarding policies and practices for combating drug addiction with particular focus on the current opioid crisis in the United States. The Commission's final report is due October 1, 2017 unless there is an extension. Per E.O. 13784, the Commission shall:

a. Identify and describe the existing Federal funding used to combat drug addiction and the opioid crisis;

b. assess the availability and accessibility of drug addiction treatment services and overdose reversal throughout the country and identify areas that are underserved;

c. identify and report on best practices for addiction prevention, including healthcare provider education and evaluation of prescription practices, collaboration between State and Federal officials, and the use and effectiveness of State prescription drug monitoring programs;

d. review the literature evaluating the effectiveness of educational messages for youth and adults with respect to prescription and illicit opioids;

e. identify and evaluate existing Federal programs to prevent and treat drug addiction for their scope and effectiveness, and make recommendations for improving these programs; and;

f. make recommendations to the President for improving the Federal response to drug addiction and the opioid crisis.

Dated: June 6, 2017.
Michael Passante,
Acting General Counsel, Designated Federal Officer.

[FR Doc. 2017-12023 Filed 6-8-17; 8:45 am]

BILLING CODE 3280-F5-P